DEPARTMENT OF ENERGY

Federal Energy Regulatory Commission

[Docket No. RP00-628-000]

Kinder Morgan Interstate Gas Transmission LLC; Notice of Tariff Filing

October 4, 2000.

Take notice that on September 29, 2000, Kinder Morgan Interstate Gas Transmission LLC, (KMIGT) tendered for filing as part of its FERC Gas Tariff, Fourth Revised Volume No. 1-A and Fourth Revised Volume 1-B, the tariff sheets listed on Appendix A to the filing, to become effective November 1, 2000.

KMGT states that the proposed changes update the KMIGT tariff and clarify or simplify certain tariff provisions. Through the proposed changes KMIGT: revises the provisions regarding capacity release by small customer service (SCS) shippers; clarifies the provision concerning incidental purchases and sales of gas; and makes a number of housekeeping changes to various tariff sheets.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26050 Filed 10-10-00; 8:45 am]

BILLING CODE 6717-01-M